DEPARTMENT OF AGRICULTURE

Farm Service Agency

Notice of Funds Availability: Tree Assistance Program for New York Fruit Tree Losses Due to Ice Storm

AGENCY: Farm Service Agency, USDA.

ACTION: Notice.

SUMMARY: This notice announces the availability of $5,000,000 to provide assistance under the Tree Assistance Program (TAP) to compensate tree-fruit growers in a federally-declared disaster area in the State of New York who suffered tree losses in 2003 as the result of an April 4-6, 2003, ice storm.

DATES: Applications by eligible persons may be submitted any time before the ending date announced by the Deputy Administrator for Farm Programs, Farm Service Agency. That date, unless adjusted by the Deputy Administrator, shall be May 14, 2004.

FOR FURTHER INFORMATION CONTACT: Eloise Taylor, Chief, Compliance Branch, Production, Emergencies and Compliance Divisions, FSA/USDA, Stop 0517, 1400 Independence Avenue SW., Washington, DC 20250-0517; telephone (202) 720-9882; e-mail: Eloise.Taylor@wdc.usda.gov. Persons with disabilities who require alternative means for communication of regulatory information, (Braille, large print, audiotape, etc., should contact USDA's TARGET Center at (202) 720-2600 (voice and TDD).

SUPPLEMENTARY INFORMATION:

Background

TAP was authorized, but not funded, by section 10201 et seq. of the Farm Security and Rural Investment Act of 2002 (Pub. L. 107-171) (7 U.S.C. 8201 et seq.) to provide assistance to eligible orchardists to replant trees, bushes and vines that were grown for the production of an annual crop and were lost due to a natural disaster. This notice sets out a special program within TAP for certain fruit tree losses due to an ice storm in New York. Section 756(a) of Division A of the Consolidated Appropriations Act, 2004 (Pub. L. 108-199) provided that the Secretary of Agriculture shall use $5,000,000 of the funds of the Commodity Credit Corporation to provide assistance under TAP to compensate tree-fruit growers in a federally-declared disaster area in the State of New York who suffered tree losses in 2003 as the result of an April 4-6, 2003, ice storm. Assistance will be provided subject to regulations and restrictions governing the TAP provided for in the 2002 Act. Those regulations were published March 2, 2004 (69 FR 9744) and are found at 7 CFR part 783. Also, the restrictions of the statute apply. Those include a requirement of replanting, a limitation on payments by “person,” a limitation on acres for which relief can be claimed, a requirement that the loss be tied to a natural disaster, and others. If, after the claims filed during the allowed period set out in this notice are received and the available funds are less than the eligible claims, a proration will be made. Claims are limited to the lesser of the established practice rates or 75 percent of the actual costs for eligible replantings after adjusting for normal mortality. In addition, the reimbursement for those plantings cannot exceed the reasonable cost of those replantings as determined by FSA. There are other statutory restrictions. Under current law, no “person” as defined by reference to program regulations can receive, cumulatively, for all TAP claims for all commodities over the life of the program as administered pursuant to the general authority of the 2002 Act, a total of $75,000. Also, and cumulatively, no person, for all TAP claims for all commodities over the life of the administration of the program, can, under current law, receive benefits for losses on more than 500 acres. All other restrictions of the TAP regulations and statute apply as well. Other requirements may also apply.

Applications

Applications may be accepted at any time before the ending date set by the Deputy Administrator for Farm Programs, FSA. That date, unless modified by the Deputy Administrator, shall be May 14, 2004. Only producers with losses in federally-declared disaster counties may file an application. The counties are Cayuga, Chenango, Livingston, Madison, Monroe, Oneida, Onondaga, Ontario, Orleans, Oswego, Otsego, Schenectady, Seneca, Wayne, and Yates.

Application forms are available for TAP at FSA county offices or on the Internet at www.fsa.usda.gov. A complete application for TAP benefits and related supporting documentation must be submitted to the county office before the deadline.

A complete application will include all of the following:

(1) A form provided by FSA;

(2) A written estimate of the number of fruit trees lost or damaged which is prepared by the owner or someone who is a qualified expert, as determined by the FSA county committee;

(3) The number of acres on which the loss was suffered;

(4) Sufficient evidence of the loss to allow the county committee to calculate whether an eligible loss occurred; and

(5) Other information as requested or required by regulation.

Signed at Washington, DC, on March 25, 2004.
James R. Little,
Administrator, Farm Service Agency.

[FR Doc. 04-8648 Filed 4-15-04; 8:45 am]

BILLING CODE 3410-05-P